DEPARTMENT OF HEALTH AND HUMAN SERVICES

[Document Identifier: OS-0990-XXXX]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office at (202) 690-6162. Written comments and recommendations for the proposed information collections must be directed to the OS Paperwork Clearance Officer at the above email address within 60 days.

Proposed Project: Examining Consumer and Producer Responses to Restaurant Menu Labeling Requirements: Survey Protocol—OMB No. 0990-XXXX—New—Office of the Assistant Secretary for Planning and Evaluation (ASPE).

Abstract: The Office of the Assistant Secretary for Planning and Evaluation (ASPE) is requesting approval on a new information collection request from the Office of Management and Budget (OMB) for purposes of conducting a study about calorie labeling on restaurant menus.

Previous research demonstrates that consumers respond both to information about their options and the way those options are presented. Accordingly, restaurants can utilize presentation effects on menus and menu boards to influence consumer perceptions and choices. By analyzing the consumer response to menu options and design, this study will offer a wide-ranging view of the consumer and producer response to menu labeling requirements.

ASPE is requesting comment on the burden for this study aimed at understanding the impact that the new FDA rule on calorie labeling will have on consumer choice when ordering from a restaurant. The goal of developing this activity is to examine consumer and producer responses to restaurant menu labeling requirements recently enacted by the FDA. The participants will include members of the RAND American Life Panel (ALP) which includes participants from several sources, including the University of Michigan Monthly Survey, the National Survey Project cohort, and several specific recruitment methods to add specific populations (e.g. active recruitment for vulnerable populations).

Estimated Annualized Burden Table
Type of respondent | Number of respondents | Number of responses per respondent | Average burden per response (in hours) | Total burden hours
ALP Panel Member | 2,100 | 1 | 20/60 | 700
Totals |  |  |  | 700

Darius Taylor,
Paperwork Reduction Act Reports Clearance Officer.

[FR Doc. 2015-16871 Filed 7-9-15; 8:45 am]

BILLING CODE 4150-05-P